DEPARTMENT OF HOMELAND SECURITY

Federal Emergency Management Agency

44 CFR Part 65

[Docket No. FEMA-P-7622]

Changes in Flood Elevation Determinations

AGENCY: Federal Emergency Management Agency, Emergency Preparedness and Response Directorate, Department of Homeland Security.

ACTION: Interim rule.

SUMMARY: This interim rule lists communities where modification of the Base (1-percent-annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Mitigation Division Director for the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Mary Jean Pajak, Federal Emergency Management Agency, 500 C Street, SW., Washington, DC 20472.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification

This interim rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Illinois:
Cook (Case No. 02-05-2981P) | Village of Orland Park | January 30, 2003, February 6, 2003, The Orland Township Messenger | The Honorable Daniel McLaughlin, Mayor, Village of Orland Park, Village Hall, 14700 South Ravinia Avenue, Orland Park, Illinois 60462 | Jan. 15, 2003 | 170140
Cook (Case No. 02-05-1847P) | Village of Wheeling | January 16, 2003, January 23, 2003, The Wheeling Countryside | Mr. Gregory Klatecki, President, Village of Wheeling, 255 West Dundee Road, Wheeling, Illinois 60090-4726 | Dec. 27, 2002 | 170173
Indiana: Lake (Case No. 02-05-3647P) | Town of Schererville | January 16, 2003, January 23, 2003, The Times | Mr. Richard Krame, City Manager, Town of Schererville, 833 West Lincoln Highway, Suite B20W, Schererville, Indiana 46375 | Jan. 27, 2003 | 180142
Kansas: Sedgwick (Case No. 02-07-250P) | City of Wichita | January 6, 2003, January 13, 2003, The Wichita Eagle | The Honorable Bob Knight, Mayor, City of Wichita, City Hall, 455 North Main, Wichita, Kansas 67202 | Dec. 6, 2002 | 200328
Minnesota: Ramsey (Case No. 02-05-0197P) | City of New Brighton | January 15, 2003, January 22, 2003, New Brighton-Mounds View Bulletin | The Honorable Steve Larson, Mayor, City of New Brighton, 803 Old Highway 8 N.W., New Brighton, Minnesota 55112 | April 23, 2003 | 270380
Missouri: St. Louis (Case No. 02-07-0172P) | Unincorporated Areas | January 16, 2003, January 23, 2003, St. Louis Post Dispatch | Mr. Buzz Westfall, County Executive, St. Louis County, 41 South Central Avenue, St. Louis, Missouri 63105 | April 24, 2003 | 290327
New Mexico:
Bernalillo (Case No. 02-06-2143P) | City of Albuquerque | January 24, 2003, January 31, 2003, Albuquerque Journal | The Honorable Martin Chavez, Mayor, City of Albuquerque, P.O. box 1293, Albuquerque, New Mexico 87103 | Jan. 8, 2003 | 350002
Bernalillo (Case No. 02-06-2143P) | Unincorporated Areas | January 24, 2003, January 31, 2003, Albuquerque Journal | Mr. Tim Cummins, Bernalillo County Commissioner, One Civic Plaza, N.W., Albuquerque, New Mexico 87102 | Jan. 8, 2003 | 350001
Ohio:
Franklin (Case No. 02-05-3227P) | Unincorporated Areas | January 9, 2003, January 16, 2003, The Columbus Dispatch | Mr. Dewey R. Stokes, President, Franklin County, Board of Commissioners, 373 South High Street, 26th Floor, Columbus, Ohio 43215-6304 | Jan. 14, 2003 | 390167
Lorain (Case No. 02-05-1839P) | City of North Ridgeville | February 19, 2003, February 26, 2003, The Chronicle Telegram | The Honorable Deanna Hill, Mayor, City of North Ridgeville, 7307 Avon Belden Road, North Ridgeville, Ohio 44039 | May 28, 2002 | 390352
Oklahoma:
Tulsa (Case No. 01-06-839P) | City of Broken Arrow | January 8, 2003, January 15, 2003, Broken Arrow Ledger | The Honorable James Reynolds, Mayor, City of Broken Arrow, 706 East Mason Drive, Broken Arrow, OK 74012 | April 16, 2003 | 400236
Oklahoma (Case No. 02-06-1547P) | City of Oklahoma City | January 17, 2003, January 24, 2003, The Daily Oklahoman | The Honorable Kirk Humphreys, Mayor, City of Oklahoma City, 200 North Walker, Suite 302, Oklahoma City, Oklahoma 73102 | April 25, 2003 | 405378
Oklahoma, Canadian, Cleveland, McClain, & Pottawatomie (Case No. 03-06-433P) | City of Oklahoma City | January 20, 2003, January 27, 2003, The Daily Oklahoman | The Honorable Kirk Humphreys, Mayor, City of Oklahoma City, 200 North Walker, Suite 302, Oklahoma City, OK 73102 | Jan. 9, 2003 | 405378
Rogers (Case No. 03-06-012P) | Unincorporated Areas | January 9, 2003, January 16, 2003, The Claremore Daily Progress | Mr. Gerry Payne, Chairman, Rogers County, Board of Commissioners, 219 South Missouri, Claremore, Oklahoma 74017 | Dec. 9, 2002 | 405379
Wagoner (Case No. 03-06-012P) | Unincorporated Areas | January 9, 2003, January 16, 2003, The Wagoner Tribune | Mr. Allan Farley, Chairman, Wagoner County, Board of Commissioners, 307 East Cherokee Street, Wagoner, Oklahoma 74467 | Dec. 9, 2002 | 400215
Texas:
Collin (Case No. 02-06-375P) | City of Allen | January 10, 2003, January 17, 2003, The Allen American | The Honorable Stephen Terrell, Mayor, City of Allen, One Allen Civic Plaza, Allen, Texas 75013 | April 18, 2003 | 480131
Johnson (Case No. 02-06-2441P) | City of Burle- son | January 8, 2003, January 15, 2003, The Burleson Star | The Honorable Byron Black, Mayor, City of Burleson, 141 West Renfro, Burleson, Texas 76028 | April 16, 2003 | 485459
Fort Bend (Case No. 02-06-376P) | Unincorporated Areas | January 22, 2003, January 29, 2003, Fort Bend Star | The Honorable James C. Adolphus, Judge, Fort Bend County, 301 Jackson Street, Suite 719, Richmond, Texas 77469 | Dec. 31, 2002 | 480228
Denton (Case No. 03-06-040P) | City of Fort Worth | January 24, 2003, January 31, 2003, The Star Telegram | The Honorable Kenneth Barr, Mayor, City of Fort Worth, 1000 Throckmorton Street, Fort Worth, Texas 76102 | May 2, 2003 | 480596
Tarrant (Case No. 02-06-2441P) | City of Fort Worth | January 8, 2003, January 15, 2003, The Star Telegram | The Honorable Kenneth Barr, Mayor, City of Fort Worth, 1000 Throckmorton Street, Fort Worth, Texas 76102 | Jan. 13, 2003 | 480596
Harris (Case No. 01-06-2046P) | Unincorporated Areas | January 10, 2003, January 17, 2003, Houston Chronicle | The Honorable Robert Eckels, Judge, Harris County, 1001 Preston Street, Suite 911, Houston, Texas 77002 | April 18, 2003 | 480287
Dallas (Case No. 02-06-2421P) | Town of Highland Park | January 22, 2003, January 29, 2003, Park Cities Morning News | The Honorable William White, Jr., Mayor, Town of Highland Park, Town Hall, 4700 Drexel Drive, Highland Park, Texas 75205 | Jan. 3, 2003 | 480178
Bexar (Case No. 02-06-2307P) | City of San Antonio | January 30, 2003, February 6, 2003, San Antonio Express News | The Honorable Ed Garza, Mayor, City of San Antonio, P.O. Box 839966, San Antonio, Texas 78283 | May 8, 2003 | 480045
Bexar (Case No. 02-06-1838P) | City of Selma | January 23, 2003, January 30, 2003, The Herald | The Honorable James Parma, Mayor, City of Selma, 9375 Corporate Drive, Selma, Texas 78154 | May 1, 2003 | 480046
Tarrant (Case No. 02-06-2441P) | Unincorporated Areas | January 8, 2003, January 15, 2003, The Star Telegram | The Honorable Tom Vandergriff, Judge, Tarrant County, 100 East Weatherford, Fort Worth, Texas 76196 | Jan. 13, 2003 | 480582
Bexar (Case No. 02-06-1838P) | City of Universal City | January 23, 2003, January 30, 2003, The Herald | The Honorable Wesley D. Becken, Mayor, City of Universal City, P.O. Box 3008, Universal City, Texas 78184 | May 1, 2003 | 480049

(Catalog of Federal Domestic Assistance No. 83.100, “Flood Insurance.”)

Dated: April 23, 2003.
Anthony S. Lowe,
Mitigation Division Director, Emergency Preparedness and Response Directorate.

[FR Doc. 03-10523 Filed 4-28-03; 8:45 am]

BILLING CODE 6718-04-P